COMMITTEE FOR PURCHASE FROM PEOPLE WHO ARE BLIND OR SEVERELY DISABLED

Procurement List Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities and delete products previously furnished by such agencies.

Comments Must Be Received On or Before: 4/2/2012.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure service listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the service to the Government.

2. If approved, the action will result in authorizing small entities to provide the service to the Government.

3. There are no known regulatory alternatives which would accomplish the objectives of the Javits-Wagner-O'Day Act (41 U.S.C. 8501-8506) in connection with the service proposed for addition to the Procurement List.

Comments on this certification are invited. Commenters should identify the statement(s) underlying the certification on which they are providing additional information.

End of Certification

The following service is proposed for addition to Procurement List for production by the nonprofit agency listed:

Service

Service Type/Location: Custodial Service, FEMA LA Recovery Office, Sherwood Forest Staging Area, 2695 Sherwood Forest, Baton Rouge, LA.

NPA: Louisiana Industries for the Disabled, Inc., Baton Rouge, LA.

Contracting Activity: Department of Homeland Security, Federal Emergency Management Agency, Baton, LA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 8501-8506) in connection with the products proposed for deletion from the Procurement List.

End of Certification

The following products are proposed for deletion from the Procurement List:

Products

Meal Kits (MORC Kits)

NSN: 8970-01-E59-0239A.

NSN: 8970-01-E59-0240A.

NSN: 8970-01-E59-0241A.

NSN: 8970-01-E59-0242A.

NSN: 8970-01-E59-0243A.

NSN: 8970-01-E59-0244A.

NPA: Topeka Association for Retarded Citizens, Topeka, KS.

Contracting Activity: Dept of Defense/Off of Secretary of Def (EXC MIL DEPTS), Washington, DC.

Shaft, Propeller

NSN: 2520-01-171-4844.

NPA: VIP Services, Inc., Elkhorn, WI.

Contracting Activity: Defense Logistics Agency Land and Maritime, Columbus, OH.

Barry S. Lineback,
Director, Business Operations.

[FR Doc. 2012-5104 Filed 3-1-12; 8:45 am]

BILLING CODE 6353-01-P